ENVIRONMENTAL PROTECTION AGENCY

[EPA-HQ-SFUND-2007-0559, FRL-8440-6]

Agency Information Collection Activities; Proposed Collection; Comment Request; Renewal of Information Collection Request for the Implementation of the Oil Pollution Act Facility Response Plan Requirements; EPA ICR Number 1630.09; OMB Control Number 2050-0135

AGENCY: Environmental Protection Agency.

ACTION: Notice.

SUMMARY: In compliance with the Paperwork Reduction Act (44 U.S.C. 3501 et seq.), this document announces that EPA is planning to submit a request to renew an existing approved Information Collection Request (ICR) to the Office of Management and Budget (OMB). This ICR is scheduled to expire on November 30, 2007. Before submitting the ICR to OMB for review and approval, EPA is soliciting comments on specific aspects of the proposed information collection as described below.

DATES: Comments must be submitted on or before September 17, 2007.

ADDRESSES: Submit your comments, identified by Docket ID No. EPA-HQ-SFUND-2007-0559, by one of the following methods:

• www.regulations.gov: Follow the on-line instructions for submitting comments.

• Mail: EPA Docket Center (EPA/DC), Docket ID No. EPA-HQ-SFUND-2007-0559, 1200 Pennsylvania Ave., NW., Washington, DC 20460.

Instructions. Direct your comments to Docket ID No. EPA-HQ-SFUND-2007-0559. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Lori Lee, Office of Solid Waste and Emergency Response, Office of Emergency Management, Environmental Protection Agency, Mail Code: 5104A, 1200 Pennsylvania Ave., NW., Washington, DC 20460; telephone number: 202-564-8006; fax number: 202-564-2501; e-mail address: lee.lori@epa.gov.

SUPPLEMENTARY INFORMATION:

How Can I Access the Docket and/or Submit Comments?

EPA has established a public docket for this ICR under Docket ID no. EPA-HQ-SFUND-2007-0559 which is available for online viewing at www.regulations.gov, or in person viewing at the Office of Emergency Prevention, Preparedness, and Response Oil Program Docket in the EPA Docket Center (EPA/DC), EPA West, Room B102, 1301 Constitution Ave., NW., Washington, DC. The EPA/DC Public Reading Room is open from 8:30 a.m. to 4:30 p.m., Monday through Friday, excluding legal holidays. The telephone number for the Reading Room is 202-566-1744, and the telephone number for the Office of Emergency Prevention, Preparedness, and Response Oil Program Docket is 202-566-2426. Use www.regulations.gov to obtain a copy of the draft collection of information, submit or view public comments, access the index listing of the contents of the public docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare my Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected Entities: Entities potentially affected by this action are a subset of facilities that are required to have a spill prevention, control, and countermeasure (SPCC) plan under the Oil Pollution Prevention regulation (40 CFR part 112) that, because of their location, could reasonably be expected to cause “substantial harm” to the environment by discharging oil into or on the navigable waters or adjoining shorelines. Owners and operators of these facilities must prepare and submit to EPA a facility response plan. The criteria for a “substantial harm” facility, which are detailed in 40 CFR 112.20(b)(1) and (f), include:

• Oil transfers over water and a total oil storage capacity greater than or equal to 42,000 gallons; or

• Total oil storage capacity greater than or equal to one million gallons and either inadequate secondary containment, proximity to fish and wildlife or sensitive environments, proximity to public drinking water intakes, or oil discharge greater than or equal 10,000 gallons in the last five years; or

• Other factors considered by the Regional Administrator.

The specific private industry sectors subject to this action include, but are not limited to: (1) Petroleum Bulk Stations and Terminals (NAICS 42271); (2) Electric Power Generation, Transmission, and Distribution (NAICS 2211); (3) Heating Oil Dealers (NAICS 3112); (4) Transportation, Pipelines, and Marinas (NAICS 482-486/488112-48819/4883/48849/492/71393); (5) Grain and Oilseed Milling (NAICS 3112); (6) Manufacturing (NAICS 31-33); (7) Warehousing and Storage (NAICS 493); (8) Crude Petroleum and Natural Gas Extraction (211111); and (9) Other Commercial Facilities (miscellaneous).

Title: Renewal of Information Collection Request for the Implementation of the Oil Pollution Act Facility Response Plan Requirements (40 CFR Part 112).

ICR Numbers: EPA ICR No. 1630.09, OMB Control No. 2050-0135.

ICR Status: This ICR is currently scheduled to expire on November 30, 2007.

Abstract: The authority for EPA's facility response plan requirements is derived from section 311 of the Clean Water Act, as amended by the Oil Pollution Act of 1990. EPA's regulation is codified at 40 CFR 112.20 and 112.21. All facility response plan (FRP) reporting and recordkeeping activities are mandatory. No amendments were made to the FRP regulation since submission of the current ICR approval (November 30, 2004). While EPA recently finalized amendments to the SPCC rule (71 FR 77266 (December 26, 2006) and 72 FR 27443 (May 16, 2007)) these amendments are not expected to impact the number of facilities subject to FRP requirements, nor are they expected to substantively affect the burden of complying with FRP requirement.

Purpose of Data Collection

A facility-specific response plan will help an owner or operator identify the necessary resources to respond to an oil spill in a timely manner. If implemented effectively, the FRP will reduce the impact and severity of oil spills and may prevent spills because of the identification of risks at the facility. Although the facility owner or operator is the primary data user, EPA also uses the data in certain situations to ensure that facilities comply with the regulation and to help allocate response resources. State and local governments may also use the data to assist in local emergency preparedness planning efforts.

EPA reviews all submitted FRPs and must approve FRPs for those facilities whose discharges may cause “significant and substantial harm” to the environment. EPA approval is needed in order to ensure that facilities believed to pose the highest risk have planned for adequate resources and procedures to respond to a spill. (See 40 CFR 112.20(f)(3) for further information about the criteria for “significant and substantial harm.”)

Response Plan Certification. Under section 112.20(e), the owner or operator of a facility subject to SPCC requirements in 40 CFR part 112 but that does not meet the “substantial harm” criteria in section 112.20(f)(1) must complete and maintain at the facility the certification form contained in Appendix C to part 112.

Response Plan Preparation. Under section 112.20(a) or (b), the owner or operator of a facility that meets the “substantial harm” criteria in section 112.20(f)(1) must prepare and submit to the EPA Regional Administrator a facility response plan (FRP) following section 112.20(h). Such a facility may be a newly constructed facility or may be an existing facility that meets paragraph (f)(1) as a result of a planned change (paragraph (a)(2)(iii)) or an unplanned change (paragraph (a)(2)(iv)) in facility characteristics. Under paragraph (c), the owner or operator may be required to amend the FRP.

Response Plan Maintenance. Under section 112.20(g), the owner or operator must periodically review the FRP to ensure consistency with the National Oil and Hazardous Substances Pollution Contingency Plan and Area Contingency Plans. Under section 112.20(d), the facility owner or operator must revise and resubmit revised portions of the FRP after material changes at the facility. FRP changes that do not result in a material change in response capabilities shall be provided to the Regional Administrator as they occur. Periodic drills and exercises are required to test the effectiveness of the FRP.

Recordkeeping. Under section 112.20(e), an owner or operator who determines that the FRP requirements do not apply must certify and retain a record of this determination. An owner or operator who is subject to the requirements must keep the FRP at the facility (section 112.20(a)), keep updates to the FRP (section 112.20(d)(1) and (2)), and log activities such as discharge prevention meetings, response training, and drills and exercises (section 112.20(h)(8)(iv)).

Consultations

For the current ICR (approved on November 30, 2004), EPA consulted with nine owners or operators of FRP facilities to assess the reasonableness of the hour and dollar burden estimates. Interviews revealed that the burden was comparable to the burden estimate that EPA had used in earlier ICR (as recent as May 2, 2001), which had relied on existing industry-related sources of burden and cost information, combined with input from EPA regional staff and best professional judgment. Further, the 2004 consultations did not identify significant sources of burden not captured in earlier renewal ICR (such as unaccounted for recordkeeping costs or other time-consuming tasks associated with FRP regulatory compliance). For this renewal, EPA again contacted nine regulated facilities (of different sizes and types) to verify the reasonableness of its hour and dollar burden estimates. EPA recognizes that the information from the interviews with nine individuals are not statistically representative of the burden experienced by all FRP facilities. Nevertheless, the results of the consultations suggest that EPA's burden estimates adequately capture industry practices. This renewal ICR, therefore, does not change the hour burden estimates used in the 2004 renewal ICR. The burden cost is adjusted to reflect increases in wage rates.

Number of Regulated Facilities

Since approval of the current ICR (November 30, 2004), EPA has collected detailed information on the facilities that have prepared and submitted an FRP to EPA. EPA compiled a national inventory of FRP facilities from data maintained by each of EPA's ten regional offices. The inventory was updated in April 2007 and comprises 4,132 plan holders. While prior ICR were developed based on an assumed share of the estimated number of SPCC facilities, this renewal instead uses the more detailed inventory as baseline for the number of FRP facilities affected by this ICR.

Burden Statement: A national inventory of FRP plan holders compiled by EPA in the Spring of 2007 indicate that owners and operators of 4,132 facilities had developed and are maintaining FRPs. Information available about individual plan holders, however, shows that 161 FRP facilities were owned and operated by the federal government (e.g., military installations). These federal facilities are excluded from the burden estimate analysis, given that they are not considered “persons” under the Paperwork Reduction Act. Consequently, the burden analysis uses 3,971 as the number of existing facilities that are maintaining an FRP as of 2007.

The number of active FRP facilities represents approximately 0.7 percent of the 596,186 facilities EPA estimates are currently subject to 40 CFR part 112. EPA estimates that approximately 296 new FRP-regulated facilities will initiate operations during the three-year period covered by this ICR and will develop FRPs. The number of plan holders represents approximately 0.5 percent of the 18,541 new facilities EPA estimates will become subject to 40 CFR part 112 each year. Conversely, another 18,445 facilities (99.5 percent of the 18,541 facilities subject to 40 CFR part 112) will complete the certification form indicating that they are not “substantial harm” facilities.

The hour burden and dollar cost estimates capture the variety of facility types and sizes among those that are subject to the FRP requirements. Because the costs of compliance activities associated with FRPs depend on the physical and operating characteristics of the facility, EPA developed the burden estimate based on six categories of facilities defined by their total storage capacity and operational characteristics. Total storage capacity categories were defined as: (1) Facilities with a total storage capacity greater than 42,000 gallons but less than or equal to one million gallons; and (2) facilities with a total storage capacity greater than one million gallons. While facilities with oil storage capacity between 1,320 gallons and 42,000 gallons may be subject to 40 CFR part 112, they are not subject to FRP requirements and need only to maintain the certification form. The FRP facility type categories were based on how oil is used at a facility. Facilities were classified as using oil in one of three ways: Storage/Consumption facilities that consume oil as a raw material or end-use product; Storage/Distribution facilities market and distribute oil as a wholesale or retail product; and Production facilities pump oil from the ground as part of exploration or production activities. While rule requirements do not vary between these three types of facilities, they are assumed to have different configuration, equipment, and operational characteristics that may affect the FRP burden.

The total hour burden to the entire regulated community over the three-year period covered by the renewal ICR is approximately 1,307,230 hours, or 435,743 hours annually. Exhibit 1 displays the average annual respondent burden for each burden category; certification, preparation, maintenance. The average public reporting and recordkeeping burdens to a newly regulated facility where the owners or operators are not required to prepare FRPs (i.e., facilities where the owner or operators certify that they do not meet the “substantial harm” criteria) are estimated at 0.4 hours per year. The average annual reporting and recordkeeping burdens to a newly regulated facility where the owners or operators are required to prepare FRPs (i.e., first-year costs for plan development) are estimated at 240.1 hours per year. The average annual reporting and recordkeeping burdens to a facility where the owners or operators maintain FRPs (i.e., subsequent year costs for annual plan maintenance) are estimated at 99.7 hours.

Exhibit 1.—Recordkeeping and Reporting Burden for Affected Facilities
| Total average annual burden (hours) | Number of facilities per year (respondents) | Average annual burden per respondent (hours)
Certification | 7,372 | 18,445 | 0.4
Preparation | 23,057 | 96 | 240.1
Maintenance | 405,314 | 4,064 | 99.7

Capital costs are incurred by respondents that must prepare an FRP for the first time. The total capital cost to comply with the FRP information collection requirements is $89,098 over the three-year period covered by the renewal ICR, or $29,699 per year. This includes one-time startup costs such as telephone calls, postage, photocopying, and other costs related to the preparation and submission of an FRP. O&M costs are considered to be negligible since it is expected that facility owners and operators will incur no additional costs due to hard copy storage of their FRPs (e.g., placed on existing shelves or in existing file cabinets) or electronic storage (e.g., saved on a facility(s existing computer hard drive or network).

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Are There Changes in the Estimates From the Last Approval?

There is a decrease of 199,250 hours in the total estimated respondent burden compared with that identified in the ICR currently approved by OMB. This decrease reflects EPA's current inventory of facilities that have submitted and are maintaining an FRP as per 40 CFR part 112. While there have been no changes in the regulation that affected per facility regulatory burden, the number of facilities currently subject to FRP requirements is lower than had been estimated for the current ICR, resulting in a lower aggregate burden.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: July 12, 2007.
Deborah Y. Dietrich,
Director, Office of Emergency Management, U.S. Environmental Protection Agency, Office of Solid Waste and Emergency Response.

[FR Doc. E7-13898 Filed 7-17-07; 8:45 am]

BILLING CODE 6560-50-P